Title 3—

The President

Proclamation 9213 of November 21, 2014

National Family Week, 2014

By the President of the United States of America

A Proclamation

In big cities and small towns throughout our Nation, the strength and diversity of hardworking families reflect the promise of America—that with grit and determination, anyone can build a better future for themselves and their children. Families provide love and encouragement, and they are a source of support and inspiration to a generation limited only by the size of their dreams and the power of their imagination. During National Family Week, we celebrate our family members and the countless ways they lift us up, and we continue our work to bolster the bonds that tie all of us together.

Family is the bedrock of our lives, and my Administration is fighting to ensure Americans are able to seize their every opportunity and fulfill their responsibilities to their loved ones. Working mothers and fathers should not have to choose between their career and their life at home—especially when a new baby or an aging parent needs them most—and no one who works full-time should have to raise their family in poverty. Family leave, childcare, and workplace flexibility are not bonuses, they are basic needs; and earlier this year, we held the first-ever White House Summit on Working Families, bringing together private and public sector partners who know that family-friendly policies are good business practices too.

My Administration is supporting programs that help families thrive. Many workers who would benefit from an increase in the minimum wage are supporting children and families, and that is why I continue to work to make sure an honest day's work is rewarded with an honest day's pay. The Affordable Care Act expands access to quality, affordable health insurance, providing millions of Americans with the freedom to take the best job for their families without worrying about losing their health care. And the Federal Government is leading the way by increasing opportunities for flexible work schedules for Federal employees and giving these workers the right to request them.

Each day, American families do everything right: they work hard, live responsibly, take care of their children, and participate in their neighborhoods. They deserve the opportunity to succeed and a country that supports lasting economic security for all. This week, we recognize the employers and communities that empower families, and we honor our family members and all those who sacrifice to ensure every possibility is within our reach. Let us recommit to building a society where dynamic workplaces support strong families, where time with our loved ones is precious but not rare.

NOW, THEREFORE, I, BARACK OBAMA, President of the United States of America, by virtue of the authority vested in me by the Constitution and the laws of the United States, do hereby proclaim November 23 through November 29, 2014, as National Family Week. I invite all States, communities, and individuals to join in observing this week with appropriate ceremonies and activities to honor our Nation's families.

IN WITNESS WHEREOF, I have hereunto set my hand this twenty-first day of November, in the year of our Lord two thousand fourteen, and of the Independence of the United States of America the two hundred and thirty-ninth.

[FR Doc. 2014-28190

Filed 11-25-14; 11:15 am]

Billing code 3295-F5